DEPARTMENT OF THE INTERIOR

Fish and Wildlife Service

Availability of an Environmental Action Statement and Receipt of an Application for a Permit To Enhance the Survival of the Northern Idaho Ground Squirrel in Adams County, Idaho Under a Safe Harbor Agreement

AGENCY: Fish and Wildlife Service, Interior.

ACTION: Notice of availability.

SUMMARY: Bob and Peggy Mack (Applicants) have applied to the Fish and Wildlife Service (Service) for an enhancement of a survival permit pursuant to section 10(a)(1)(A) of the Endangered Species Act of 1973, as amended. The permit application includes a proposed Safe Harbor Agreement (Agreement) between the Applicants and the Service. The Agreement and permit application are available for public comment.

The Agreement allows for management and conservation of the threatened northern Idaho ground squirrel (Spermophilus brunneus brunneus) on approximately 14 acres of private land, owned by the Applicants, approximately 5.5 miles northwest of New Meadows, Idaho. Northern Idaho ground squirrels currently occupy less than 5 of the 14 acres. The proposed duration of the Agreement is 10 years, and the proposed term of the enhancement of a survival permit is 20 years.

Under the Agreement, a 5-acre area, which includes all the habitat currently occupied by northern Idaho ground squirrels on the Applicants' property, is identified as a protected area. This 5-acre protected area would have a baseline greater than zero (0), and no incidental take would be authorized under the permit within this area. The Agreement allows for a variety of conservation measures to be carried out by the Service within the 5-acre protected area to benefit the conservation of northern Idaho ground squirrels. The permit would authorize the Applicants to return the 9 acres outside of the 5-acre protected area to the existing baseline condition of zero (0) northern Idaho ground squirrels. We expect this Agreement to result in a net conservation benefit by enhancing northern Idaho ground squirrel habitat within the 5-acre protected area, and expanding the northern Idaho ground squirrel population to lands outside the protected area. Recovery of northern Idaho ground squirrels is expected to be enhanced under the Agreement by improving habitat, expanding the northern Idaho ground squirrel population at this site, and potentially providing a population with surplus individuals for transplanting to other sites in need of supplementation. Under the Agreement, the Applicants will receive funding under the Service's Endangered Species Act Private Landowner Incentive Program.

The Service has made a preliminary determination that the proposed Agreement and permit application are eligible for categorical exclusion under the National Environmental Policy Act of 1969. We explain the basis for this determination in an Environmental Action Statement, which also is available for public review.

We request comments from the public on the permit application, and Agreement. All comments we receive, including names and addresses, will become part of the administrative record and may be released to the public.

DATES: Written comments should be received on or before August 21, 2000.

ADDRESSES: Comments should be addressed to Dennis Mackey, Project Biologist, Fish and Wildlife Service, 1387 S. Vinnell Way, Room 368, Boise, Idaho 83709 (telephone: 208/378-5267; facsimile: 208/378-5262).

FOR FURTHER INFORMATION CONTACT: Dennis Mackey at the above address or telephone 208/378-5267.

SUPPLEMENTARY INFORMATION:

Document Availability

You may obtain copies of the documents for review by contacting the individual named above. You also may make an appointment to view the documents at the above address during normal business hours. The documents are also available electronically on the World Wide Web at http://www.fws.gov/r1srbo/.

Background

Under a Safe Harbor Agreement, participating property owners voluntarily undertake management activities on their property to enhance, restore, or maintain habitat benefitting species listed under the Endangered Species Act. Safe Harbor Agreements encourage private and other non-Federal property owners to implement conservation efforts for listed species by assuring property owners they will not be subjected to increased property use restrictions if their efforts attract listed species to their property or increase the numbers or distribution of listed species already on their property. Application requirements and issuance criteria for enhancement of survival permits through Safe Harbor Agreements are found in 50 CFR 17.22(c).

We have worked with the Applicants to develop the proposed Agreement for the conservation of northern Idaho ground squirrels on their 14 acres of land in Adams County, Idaho. Less than 5 of the 14 acres are currently occupied by northern Idaho ground squirrels. Under the proposed Agreement, the Applicants will: (1) Protect 5 acres of occupied, suitable northern Idaho ground squirrel habitat from land use activities that may result in “take” of ground squirrels; (2) allow Service personnel access to the property to conduct ground squirrel conservation activities such as habitat enhancement, artificial feeding, ground squirrel surveys, and translocation of excess ground squirrels should the current population expand beyond the 5-acre protected area; (3) if appropriate, in cooperation with the Service, develop signs to discourage shooting of ground squirrels; and (4) work cooperatively with the Service on other issues necessary to further the purposes of the Agreement.

Threats to the northern Idaho ground squirrel include: habitat loss due to seral forest encroachment into suitable meadow habitats; competition from Columbian ground squirrels (Spermophilus columbianus); land use changes; recreational shooting; and naturally occurring events. The Agreement provides a net conservation benefit to northern Idaho ground squirrels by providing measures for ground squirrel habitat protection and enhancement, managing competition from Columbian ground squirrels, and controlling recreational shooting. The biological goal of ground squirrel conservation measures in the Agreement is to expand the northern Idaho ground squirrel population at this site beyond the 5-acre protected area by reducing threats to the species. The Agreement is expected to contribute to recovery of northern Idaho ground squirrels by reducing threats and expanding the ground squirrel population at this site. Recovery of the species would be enhanced by increasing the viability of the population at this site and potentially allowing ground squirrels to be translocated to other sites in need of population supplementation.

Consistent with the Service's Safe Harbor policy, under the Agreement, the Service would issue a permit to the Applicants authorizing incidental take of northern Idaho ground squirrels, as a result of activities on 9 acres of their property, outside the 5-acre protected area. These activities include construction and use of the Applicants' house, garage, and other associated out-buildings proposed for development on the property; installation of a well, underground power and telephone lines, a septic system/drainfield, and other required utilities; and operation of all terrain vehicles. We expect that the maximum level of incidental take authorized under the proposed Agreement will never be realized. The level of incidental take would be dependent on if, and how rapidly, northern Idaho ground squirrels expand beyond the 5-acre protected area.

We are providing this notice pursuant to section 10(c) of the Endangered Species Act and pursuant to implementing regulations for the National Environmental Policy Act (40 CFR 1506.6). We will evaluate the permit application, associated documents, and comments submitted thereon to determine whether the permit application meets the requirements of section 10(a) of the Endangered Species Act and National Environmental Policy Act regulations. If we determine that the requirements are met, we will sign the proposed Agreement and issue an enhancement of survival permit under section 10(a)(1)(A) of the Endangered Species Act to the Applicants for take of northern Idaho ground squirrels incidental to otherwise lawful activities in accordance with the terms of the Agreement. We will not make our final decision until after the end of the 30-day comment period and will fully consider all comments received during the comment period.

Dated: July 3, 2000.
William F. Shake,
Acting Deputy Regional Director, Fish and Wildlife Service, Portland, Oregon.

[FR Doc. 00-18182 Filed 7-19-00; 8:45 am]

BILLING CODE 4310-55-P